DEPARTMENT OF TRANSPORTATION

Federal Aviation Administration

40th Meeting: RTCA Special Committee 206, Aeronautical Information and Meteorological Data Link Services

AGENCY: Federal Aviation Administration (FAA), U.S. Department of Transportation (DOT).

ACTION: Meeting Notice of RTCA Special Committee 206, Aeronautical Information and Meteorological Data Link Services.

SUMMARY: The FAA is issuing this notice to advise the public of the fortieth meeting of the RTCA Special Committee 206, Aeronautical Information and Meteorological Data Link Services.

DATES: The meeting will be held April 13-17, 2015, 9 a.m.-5 p.m. on Monday (EST), 8:30 a.m.-5 p.m. Tuesday to Thursday and 8:30 a.m.-11 a.m. on Friday.

ADDRESSES: The meeting will be held National Institute of Aerospace (NIA), 100 Exploration Way Hampton, VA 23666.

FOR FURTHER INFORMATION CONTACT: The RTCA Secretariat, 1150 18th Street NW., Suite 910, Washington, DC, 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 206. The agenda will include the following:

April 13th—Monday

• Opening Plenary and Sub-Groups meetings

• Opening remarks: DFO, RTCA, Chairman, and Hosts

• Review and approval of meeting agenda

• Approval of previous meeting minutes (Washington, DC)

• Industry presentations and coordination with other committees

○ FAA AAtS Status

○ Relevant NASA Research (two presentations)

• Review of revised TOR

○ Start of SG4 MOPS for Eddy Dissipation Rate (EDR)

○ Start of SG7 Guidance for Data Linking Forecast and Real-Time Wind Information to Aircraft

• MASPS (SG1/6) status and week's plan

April 14th-16th—Tuesday-Thursday

• Sub-Group meetings

April 15th—Wednesday

• FAA AAtS Workshop

April 16th—Thursday

• NASA Tour/Lunch (NASA cafeteria)

April 17th—Friday

• Closing Plenary

• Sub-Groups' reports

• SC-206 Action item review

• Future meeting plans and dates

• Other business and adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 17, 2015.
Mohannad Dawoud,
Management Analyst, NextGen, Program Oversight and Administration, Federal Aviation Administration.

[FR Doc. 2015-06504 Filed 3-20-15; 8:45 am]

BILLING CODE 4910-13-P